DEPARTMENT OF THE INTERIOR

Bureau of Land Management

[LLCON01000 L07770000.XX0000]

Notice of Public Meetings, Northwest Colorado Resource Advisory Council Meetings in 2010

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC will meet on:

1. May 13, 2010, 8 a.m. to 3 p.m.

2. August 19, 2010, 8 a.m. to 3 p.m.

3. December 2, 2010, 8 a.m. to 3 p.m.

Public comment periods regarding matters on the agenda will be held at 10 a.m. and 2 p.m. each day.

ADDRESSES: The locations for the meetings are:

1. May 13, 2010, Rangely Town Hall, 209 E. Main St., Rangely, CO.

2. August 19, 2010, Wattenberg Center, 682 County Road 42, Walden, CO.

3. December 2, 2010, Hampton Inn, 205 Main St., Grand Junction, CO.

FOR FURTHER INFORMATION CONTACT: David Boyd, Public Affairs Specialist, Colorado River Valley Field Office, 2300 River Frontage Road, Silt, CO, (970) 876-9008.

SUPPLEMENTARY INFORMATION: The Northwest Colorado RAC advises the Secretary of the Interior, through the Bureau of Land Management, on a variety of public land issues in Colorado.

Topics of discussion during Northwest Colorado RAC meetings may include the BLM National Sage Grouse Conservation Strategy, working group reports, sub-committee updates, recreation, fire management, land use planning, invasive species management, energy and minerals management, travel management, wilderness, wild horse herd management, land exchange proposals, cultural resource management, and other issues as appropriate.

These meetings are open to the public. The public may present written comments to the RACs. Each formal RAC meeting will also have time, as identified above, allocated for hearing public comments. Depending on the number of persons wishing to comment and time available, the time for individual oral comments may be limited. Subcommittees under this RAC meet regarding the McInnis Canyon National Conservation Area, Resource Management Plan revisions for the Glenwood Springs, Kremmling, and Grand Junction field offices, and the White River Field Office Resource Management Plan Oil and Gas Amendment. Subcommittees report to the Northwest Colorado RAC at each council meeting. Subcommittee meetings are open to the public.

More information is available at http://www.blm.gov/co/st/en/BLM_Resources/racs/nwrac.html.

Dated: April 13, 2010.
Anna Marie Burden,
Acting State Director.

[FR Doc. 2010-9023 Filed 4-19-10; 8:45 am]

BILLING CODE P